OFFICE OF THE UNITED STATES TRADE REPRESENTATIVE

Notice of List of Products Subject to Possible Withdrawal of Concessions in Response to European Union (EU) Changes to Its Rice Import Regime

AGENCY: Office of the United States Trade Representative.

ACTION: Notice.

SUMMARY: In response to the European Union's changes to its rice import regime, the United States has notified the World Trade Organization of its intent to withdraw concessions by March 1, 2005, with respect to the goods in the attached list.

Background: In Federal Register notices 04-20543, dated September 10, 2004, 04-21762 and dated September 28, 2004, the Office of the U.S. Trade Representative sought comments concerning a list of goods for which tariff concessions may be withdrawn and duties may be increased in the event the United States cannot reach agreement with the European Union (EU) for adequate compensation owed under World Trade Organization (WTO) rules as a result of EU changes to its rice import regime.

While the United States Government has actively sought a negotiated resolution of this issue, which would have alleviated the need to withdraw concessions, an agreement has not been reached. Therefore, in accordance with WTO rules, the United States has notified the WTO that it will withdraw substantially equivalent tariff concessions if an agreement is not reached before March 1.

This notice provides the list of goods notified to the WTO on Friday, January 28, 2005.

Whenever a foreign country withdraws, suspends, or modifies the application of trade agreement obligations of benefit to the United States without granting adequate compensation, the President is authorized under section 125(c) of the Trade Act of 1974 (19 U.S.C. 2135) to proclaim such increased duties or other import restrictions as are appropriate to effect adequate compensation. In the event that the United States withdraws substantially equivalent tariff concessions on March 1, increases in the duties applied to the goods included in the list notified to the WTO would be effected pursuant to this authority.

FOR FURTHER INFORMATION CONTACT: Sharon Sydow, Director for Agricultural Trade Policy, Office of the United States Trade Representative, 600 17th Street, NW., Washington, DC 20508; telephone (202) 395-6127.

Carmen Suro-Bredie,
Chair, Trade Policy Staff Committee.

Attachment: List of Products Subject to Possible Withdrawal of Concessions in Response to European Union (EU) Changes to Its Rice Import Regime

HS code | Product
04031090 | Yogurt, not in dry form, whether or not flavored or containing add fruit or cocoa.
04063085 | Processed cheese (incl. mixtures), nesoi, n/o 0.5% by wt. butterfat, not grated or powdered, subject to Ch4 U.S. note 23, not GN15.
07052100 | Witloof chicory, fresh or chilled.
07108065 | Brussels sprouts, uncooked or cooked by steaming or boiling in water, frozen, not reduced in size.
08052000 | Mandarins (including tangerines and satsumas); clementines, wilkings and similar citrus hybrids, fresh or dried.
09042020 | Paprika, dried or crushed or ground.
09102000 | Saffron.
20019025 | Artichokes, prepared or preserved by vinegar or acetic acid.
20032000 | Truffles, prepared or preserved otherwise than by vinegar or acetic acid.
20049010 | Antipasto, prepared or preserved otherwise than by vinegar or acetic acid, frozen.
20057050 | Olives (not green) in a saline solution, canned, not pitted.
20057070 | Olives (not green), in a saline solution, in airtight containers of glass or metal but not canned.
20057075 | Olives (not green) in a saline solution, not canned, nesoi.
20059030 | Sauerkraut, prepared or preserved otherwise than by vinegar or acetic acid, not frozen.
20087020 | Peaches (excluding nectarines), otherwise prepared or preserved, not elsewhere specified or Included.

Note: The product descriptions supplied above for the items of the Harmonized Tariff Schedule of the United States (“HTS”) are for the convenience of the reader and are not intended to delimit in any way the scope of the products that would be subject to increased duties.

[FR Doc. 05-2196 Filed 2-3-05; 8:45 am]

BILLING CODE 3190-W5-P